DEPARTMENT OF EDUCATION

34 CFR Parts 300, 361, 363, 367, 370, and 381

[Docket ID ED-2020-OSERS-0022]

Assistance to States for the Education of Children With Disabilities; State Vocational Rehabilitation Services; State Supported Employment Services; Independent Living Services for Older Individuals Who Are Blind; Protection and Advocacy of Individual Rights; Client Assistance Program

AGENCY: Office of Special Education and Rehabilitative Services, Department of Education.

ACTION: Notification of policy statement; request for comment.

SUMMARY: The Office of Special Education and Rehabilitative Services (OSERS) is seeking comment on its October 29, 2019, policy statement and frequently asked questions (Policy Statement) granting prior approval for two direct cost categories under the Department's authority in the Office of Management and Budget's (OMB's) Uniform Administrative Requirements, Cost Principles, and Audit Requirements for Federal Awards (Uniform Guidance). The prior approval applies to State formula grant programs administered by the Office of Special Education Programs (OSEP) and the Rehabilitation Services Administration (RSA) for two direct cost categories: Participant support costs and equipment.

DATES: We must receive your comments on or before April 8, 2020.

ADDRESSES: Submit your comments through the Federal eRulemaking portal or via U.S. mail, commercial delivery, or hand delivery. We will not accept comments submitted by fax or by email or those submitted after the comment period. To ensure that we do not receive duplicate copies, please submit your comments only once. In addition, please include the docket ID at the top of your comments.

• Federal eRulemaking Portal: Go to www.regulations.gov to submit your comments electronically. Information on using Regulations.gov, including instructions for accessing agency documents, submitting comments, and viewing the docket, is available on the site under “How to use Regulations.gov” in the Help section.

• Postal Mail, Commercial Delivery, or Hand Delivery: If you mail or deliver your comments about this proposed interpretation, address them to the appropriate individual listed under FOR FURTHER INFORMATION CONTACT.

Privacy Note: The Department's policy is to make all comments received from members of the public available for public viewing in their entirety on the Federal eRulemaking Portal at www.regulations.gov. Therefore, commenters should be careful to include in their comments only information that they wish to make publicly available.

FOR FURTHER INFORMATION CONTACT: For programs administered by OSEP, Matthew Schneer, U.S. Department of Education, 400 Maryland Avenue SW, Room 5055, Potomac Center Plaza, Washington, DC 20202-5076. Telephone: (202) 245-6755. Email: Matthew.Schneer@ed.gov.

For programs administered by RSA, David Steele, U.S. Department of Education, 400 Maryland Avenue SW, Room 5157, Potomac Center Plaza, Washington, DC 20202-5076. Telephone: (202) 245-6520. Email: David.Steele@ed.gov.

If you use a telecommunications device for the deaf (TDD) or a text telephone (TTY), call the Federal Relay Service (FRS), toll free, at 1-800-877-8339.

SUPPLEMENTARY INFORMATION:

Invitation to Comment

We invite you to submit comments on the Policy Statement. See ADDRESSES for instructions on how to submit comments.

During and after the comment period, you may inspect all public comments about this proposed interpretation by accessing Regulations.gov. You may also inspect the comments in person in Room 5008 between the hours of 8:30 a.m. and 4:00 p.m., Eastern time, Monday through Friday of each week except Federal holidays. If you want to schedule time to inspect comments, please contact the person listed under FOR FURTHER INFORMATION CONTACT.

Assistance to Individuals with Disabilities in Reviewing the Record: On request, we will provide an appropriate accommodation or auxiliary aid to an individual with a disability who needs assistance to review the comments or other documents in the public record for this notice. If you want to schedule an appointment for this type of aid, please contact the person listed under FOR FURTHER INFORMATION CONTACT.

Background: On October 29, 2019, OSERS first published the Policy Statement that granted prior approval for two direct cost categories under the Department's authority in the OMB's Uniform Guidance, codified in 2 CFR 200.407(f) and (t), 200.439(b), and 200.456.

The prior approval applies to two direct cost categories, participant support costs and equipment, in the following State formula grant programs administered by OSEP and RSA:

OSEP

1. Individuals with Disabilities Education Act (IDEA) Part B Section 611 Grants to States;

2. IDEA Section 619 Preschool Grants; and

3. IDEA Part C Grants for Infants and Families.

RSA

1. State Vocational Rehabilitation (VR) Services under the Rehabilitation Act of 1973 (Rehabilitation Act);

2. State Supported Employment (Supported Employment) Services;

3. Independent Living Services for Older Individuals Who Are Blind (OIB);

4. Protection and Advocacy of Individual Rights (PAIR); and

5. Client Assistance Program (CAP).

When we released the Policy Statement last October, we did so on an interim basis to provide grantees with immediate information to assist them in meeting their obligations under the Uniform Guidance for the listed RSA and OSEP programs. We noted that, “[w]e intend to publish this further and invite public comments,” and we are doing so now. We will consider these comments in determining whether to take any future action with respect to the Policy Statement. The Policy Statement is available on the Federal eRulemaking portal, www.regulations.gov, under docket no. ED-2020-OSERS-0022.

Accessible Format: Individuals with disabilities can obtain this document in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or portable document format (PDF). To use PDF you must have Adobe Acrobat Reader, which is available free at the site.

You may also access documents of the Department published in the Federal Register by using the article search feature at www.federalregister.gov. Specifically, through the advanced search feature at this site, you can limit your search to documents published by the Department.

Mark Schultz,
Delegated the authority to perform the functions and duties of the Assistant Secretary for Special Education and Rehabilitative Services.

[FR Doc. 2020-04462 Filed 3-6-20; 8:45 am]

BILLING CODE 4000-01-P